COMMITTEE FOR PURCHASE FROM PEOPLE WHO ARE BLIND OR SEVERELY DISABLED

Procurement List; Proposed Additions and Deletions

AGENCY: Committee for Purchase From People Who Are Blind or Severely Disabled.

ACTION: Proposed additions to and deletions from the Procurement List.

SUMMARY: The Committee is proposing to add products to the Procurement List that will be furnished by nonprofit agencies employing persons who are blind or have other severe disabilities, and deletes services previously furnished by such agencies.

DATES: Comments must be received on or before: March 1, 2020.

ADDRESSES: Committee for Purchase From People Who Are Blind or Severely Disabled, 1401 S Clark Street, Suite 715, Arlington, Virginia, 22202-4149.

FOR FURTHER INFORMATION CONTACT: For further information or to submit comments contact: Michael R. Jurkowski, Telephone: (703) 603-2117, Fax: (703) 603-0655, or email CMTEFedReg@AbilityOne.gov.

SUPPLEMENTARY INFORMATION: This notice is published pursuant to 41 U.S.C. 8503(a)(2) and 41 CFR 51-2.3. Its purpose is to provide interested persons an opportunity to submit comments on the proposed actions.

Additions

If the Committee approves the proposed additions, the entities of the Federal Government identified in this notice will be required to procure the products listed below from nonprofit agencies employing persons who are blind or have other severe disabilities.

The following products are proposed for addition to the Procurement List for production by the nonprofit agencies listed:

Products

NSNs—Product Names:

MR 11091—Bag, Laminated, Large, Easter Design 1

MR 11092—Bag, Laminated, Large, Easter Design 2

MR 11093—Bag, Tote, Reusable, Collapsible, Easter

MR 11094—Bag, Reusable, Laminated Gift Size, Easter Design 1

MR 11095—Bag, Reusable, Laminated Gift Size, Easter Design 2

Mandatory Source of Supply: West Texas Lighthouse for the Blind, San Angelo, TX

Contracting Activity: Military Resale-Defense Commissary Agency

Deletions

The following services are proposed for deletion from the Procurement List:

Services

Service Type: Janitorial/Custodial

Mandatory for: Veterans Affairs Medical Center: Hunter Holmes McGuire, Richmond, VA

Mandatory Source of Supply: Goodwill Services, Inc, Richmond, VA

Contracting Activity: VETERANS AFFAIRS, DEPARTMENT OF, NAC

Service Type: Mailroom Operation

Mandatory for: Directorate of Human Resources, Fort Knox, KY

Mandatory Source of Supply: Employment Source, Inc., Fayetteville, NC

Contracting Activity: DEPT OF THE ARMY, W6QM MICC-FT KNOX

Service Type: Janitorial/Grounds Maintenance

Mandatory for: Department of Agriculture: U.S. Horticultural Research Laboratory, Fort Pierce, FL

Mandatory Source of Supply: Brevard Achievement Center, Inc., Rockledge, FL

Contracting Activity: AGRICULTURAL RESEARCH SERVICE, USDA ARS SAA 4384

Service Type: Janitorial/Elevator Operator

Mandatory for: Southeast Federal Center: Building 205, Washington, DC

Mandatory Source of Supply: Davis Memorial Goodwill Industries, Washington, DC

Contracting Activity: GENERAL SERVICES ADMINISTRATION, FPDS AGENCY COORDINATOR

Service Type: Janitorial/Custodial

Mandatory for: U.S. Federal Building and Post Office: 425 Juliana Street, Parkersburg, WV

Mandatory Source of Supply: SW Resources, Inc., Parkersburg, WV

Contracting Activity: PUBLIC BUILDINGS SERVICE, GSA/PBS/R03 NORTH SERVICE CENTER

Service Type: Administrative Services

Mandatory for: GSA, New York: Federal Supply Service, 26 Federal Plaza, New York, NY

Mandatory Source of Supply: The Corporate Source, Inc., Garden City, NY

Contracting Activity: PUBLIC BUILDINGS SERVICE, GSA PBS R2 ACQUISITION MANAGEMENT DIVISION

Service Type: Library Services

Mandatory for: Building 405, Shaw AFB, SC

Contracting Activity: DEPT OF THE AIR FORCE, FA4803 20 CONS LGCA

Service Type: Janitorial/Custodial

Mandatory for: Peace Bridge Complex, Buffalo, NY

Mandatory Source of Supply: Suburban Adult Services, Inc., Elma, NY

Contracting Activity: GENERAL SERVICES ADMINISTRATION, FPDS AGENCY COORDINATOR

Service Type: Virtual Warehouse Operation

Mandatory for: Department of Transportation: Ardmore East Business Center, Landover, MD

Mandatory Source of Supply: ServiceSource, Inc., Oakton, VA

Contracting Activity: DEPARTMENT OF TRANSPORTATION

Service Type: Moving Services

Mandatory for: Department of the Interior, Washington, DC

Mandatory Source of Supply: Anchor Mental Health Association, Washington, DC

Contracting Activity: OFFICE OF POLICY, MANAGEMENT, AND BUDGET, NBC ACQUISITION SERVICES DIVISION

Service Type: Laundry Service

Mandatory for: Naval Air Station, Patuxent River, MD

Mandatory Source of Supply: Rappahannock Goodwill Industries, Inc., Fredericksburg, VA

Contracting Activity: DEPT OF THE NAVY, U S FLEET FORCES COMMAND

Service Type: Grounds Maintenance

Mandatory for: San Juan Customhouse, San Juan, PR

Mandatory Source of Supply: The Corporate Source, Inc., Garden City, NY

Contracting Activity: BUREAU OF CUSTOMS AND BORDER PROTECTION, NATIONAL ACQUISITION CENTER

Service Type: Janitorial/Custodial

Mandatory for: VA Central Iowa Health Care System: Day Care Center, Des Moines, IA

Mandatory Source of Supply: Goodwill Solutions, Inc., Johnston, IA

Contracting Activity: VETERANS AFFAIRS, DEPARTMENT OF, NAC

Patricia Briscoe,
Deputy Director, Business Operations (Pricing and Information Management),

[FR Doc. 2020-01800 Filed 1-30-20; 8:45 am]

BILLING CODE 6353-01-P